DEFENSE NUCLEAR FACILITIES SAFETY BOARD

Sunshine Act Meeting

Pursuant to the provisions of the “Government in the Sunshine Act” (5 U.S.C. 552b), notice is hereby given of the Defense Nuclear Facilities Safety Board's (Board) meeting described below. The Board will conduct a public hearing pursuant to 42 U.S.C. 2286b and invites any interested persons or groups to present any comments, technical information, or data concerning safety issues related to the matters to be considered.

Time and Date of Meeting: 9:30 a.m., February 27, 2004.

Place: Defense Nuclear Facilities Safety Board, Public Hearing Room, 625 Indiana Avenue, NW., Suite 300, Washington, DC 20004-2001. Additionally, as a part of the Board's E-Government initiative, the meeting will be presented live through Internet video streaming. A link to the presentation will be available on the Board's Web site (http://www.dnfsb.gov).

Status: Open. While the Government in the Sunshine Act does not require that the scheduled discussion be conducted in a meeting, the Board has determined that an open meeting in this specific case furthers the public interests underlying both the Sunshine Act and the Board's enabling legislation.

Matters To Be Considered: On December 8, 2003, the Department of Energy (DOE) published in the Federal Register a notice of proposed rulemaking regarding worker safety and health. On January 29, 2004, the Board submitted a letter to DOE commenting on the proposed rule. The Board requested that the responsible DOE personnel brief the Board within 30 days to detail how DOE plans to address the Board's comments on the proposed rule, pursuant to the Board's jurisdiction, as enumerated in the Atomic Energy Act (42 U.S.C. 2286b(d)). In this hearing, the Board will receive testimony that will satisfy the reporting requirement of the letter as well as receive testimony answering questions raised in a previous public hearing held on February 9, 2004.

The public hearing is independently authorized by 42 U.S.C. 2286b. The Board is holding this meeting with less than one week's notice. As provided in the Board's Sunshine Act rule, 10 CFR 1704.6(b), a majority of the Board's members voted that the Board's business requires the meeting to be held with less than one week's notice.

FOR FURTHER INFORMATION CONTACT: Kenneth M. Pusateri, General Manager, Defense Nuclear Facilities Safety Board, 625 Indiana Avenue, NW., Suite 700, Washington, DC 20004-2901, (800) 788-4016. This is a toll-free number.

SUPPLEMENTARY INFORMATION: Requests to speak at the hearing may be submitted in writing or by telephone to Mr. Pusateri. The Board asks that commentators describe the nature and scope of their oral presentation. Those who contact the Board prior to close of business on February 26, 2004, will be scheduled for time slots, beginning at approximately 11:30 a.m. The Board will post a schedule for those speakers who have contacted the Board before the hearing. The posting will be made at the entrance to the Public Hearing Room at the start of the 9:30 a.m. hearing.

Anyone who wishes to comment or provide technical information or data may do so in writing, either in lieu of, or in addition to, making an oral presentation. The Board Members may question presenters to the extent deemed appropriate. Documents will be accepted at the meeting or may be sent to the Defense Nuclear Facilities Safety Board's Washington, DC, office. The Board will hold the record open until March 27, 2004, for the receipt of additional materials. A transcript of the hearing will be made available by the Board for inspection by the public at the Defense Nuclear Facilities Safety Board's Washington office and at DOE's public reading room at the DOE Federal Building, 1000 Independence Avenue, SW., Washington, DC 20585.

The Board specifically reserves its right to further schedule and otherwise regulate the course of the meeting and hearing, to recess, reconvene, postpone, or adjourn the meeting and hearing, conduct further reviews, and otherwise exercise its power under the Atomic Energy Act of 1954, as amended.

Dated: February 18, 2004.
John T. Conway,
Chairman.

[FR Doc. 04-3833 Filed 2-18-04; 1:49 pm]

BILLING CODE 3670-01-P